DEPARTMENT OF TRANSPORTATION

Federal Motor Carrier Safety Administration

[Docket No. FMCSA-2005-22727]

Qualification of Drivers; Exemption Applications; Vision

AGENCY: Federal Motor Carrier Safety Administration (FMCSA), DOT.

ACTION: Notice of applications for exemption from the vision standard; request for comments.

SUMMARY: This notice announces FMCSA's receipt of applications from 22 individuals for an exemption from the vision requirement in the Federal Motor Carrier Safety Regulations. If granted, the exemptions will enable these individuals to qualify as drivers of commercial motor vehicles (CMVs) in interstate commerce without meeting the vision standard prescribed in 49 CFR § 391.41(b)(10).

DATES: Comments must be received on or before December 30, 2005.

ADDRESSES: You may submit comments by any of the following methods. Please label your comments with DOT DMS Docket Number FMCSA-2005-22727.

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal holidays.

All submissions must include the agency name and docket number for this notice. Note that all comments received will be posted without change to http://dms.dot.gov, including any personal information provided. To read background documents or comments received, go to http://dms.dot.gov or to Room PL-401 on the plaza level of the Nassif Building, 400 Seventh Street, SW., Washington, DC, between 9 a.m. and 5 p.m., Monday through Friday, except Federal holidays.

FOR FURTHER INFORMATION CONTACT: Dr. Mary D. Gunnels, Chief, Physical Qualifications Division, (202) 366-4001, FMCSA, Department of Transportation, 400 Seventh Street, SW., Washington, DC 20590-0001. Office hours are from 8 a.m. to 5 p.m., e.t., Monday through Friday, except Federal holidays.

SUPPLEMENTARY INFORMATION: Public Comments: The DMS is generally available 24 hours each day, except when announced system maintenance requires a brief interruption in service. You can get electronic submission and retrieval help guidelines under the “help” section of the DMS web site. If you want us to notify you that we received your comments, please include a self-addressed, stamped envelope or postcard. An acknowledgement page appears after submitting comments on-line and can be printed to document submission of comments.

Privacy Act: Anyone is able to search the electronic form of all comments received into any of our dockets by the name of the individual submitting the comment (or signing the comment, if submitted on behalf of an association, business, labor union, etc.). You may review the Department of Transportation's complete Privacy Act Statement in the Federal Register published on April 11, 2000 (Volume 65, Number 70; Pages 19477-78) or you may visit http://dms.dot.gov.

Background

Under 49 U.S.C. 31315 and 31136(e), FMCSA may grant an exemption for a 2-year period if it finds “such exemption would likely achieve a level of safety that is equivalent to, or greater than, the level that would be achieved absent such exemption.” FMCSA can renew exemptions at the end of each 2-year period. The 22 individuals listed in this notice each have requested an exemption from the vision requirement in 49 CFR 391.41(b)(10), which applies to drivers of CMVs in interstate commerce. Accordingly, the agency will evaluate the qualifications of each applicant to determine whether granting the exemption will achieve the required level of safety mandated by statute.

Qualifications of Applicants

Kerry L. Baxter

Mr. Baxter, 52, has had amblyopia in his left eye since birth. The best corrected visual acuity in his right eye is 20/25 and in the left, 20/200. His optometrist examined him in 2005 and noted, “In my professional opinion, Mr. Baxter has sufficient vision to perform the driving tasks required to operate a commercial motor vehicle.” Mr. Baxter reported that he has driven tractor-trailer combinations for 31 years, accumulating 4.7 million miles. He holds a Class A CDL from Utah. His driving record for the last 3 years shows no crashes or convictions for moving violations in a CMV.

Donald J. Bierwirth, Jr.

Mr.Bierwirth, 35, has had amblyopia in his left eye since birth. The best corrected visual acuity in his right eye is 20/20 and in the left, 20/140. Following an examination in 2005, his optometrist noted, “In my medical opinion, Donald has sufficient vision to drive commercial vehicles safely.” Mr. Bierwirth reported that he has driven straight trucks for 4 years, accumulating 180,000 miles. He holds a Class A CDL from Connecticut. His driving record for the last 3 years shows no crashes and one conviction for a moving violation—speeding—in a CMV. He exceeded the speed limit by 10 mph.

Arthur L. Bousema

Mr. Bousema, 48, has had ambloyopia in his right eye since childhood. The best corrected visual acuity in his right eye is 20/700 and in the left, 20/25. His optometrist examined him in 2005 and noted, “In my medical opinion you have sufficient vision to perform the driving tasks required to operate a commercial vehicle.” Mr. Bousema reported that he has driven straight trucks for 30 years, accumulating 300,000 miles and tractor-trailer combinations for 30 years, accumulating 300,000 miles. He holds a Class A CDL from California. His driving record for the last 3 years shows no crashes or convictions for moving violations in a CMV.

Curtis F. Caddy, III

Mr. Caddy, 40, has had retinal detachment in his right eye since 2002. The best corrected visual acuity in his right eye is hand motion at 6 feet and in the left eye, 20/20. Following an examination in 2005, his ophthalmologist noted, “In my professional opinion, Mr. Caddy has sufficient vision to perform the visual tasks necessary for a commercial driver.” Mr. Caddy reported that he has driven straight trucks for 18 years, accumulating 812,000 miles. He holds a Class B CDL from California. His driving record for the last 3 years shows no crashes or convictions for moving violations in a CMV.

Paul D. Crouch

Mr. Crouch, 52, has had a congenital cataract is his left eye since childhood. The best corrected visual acuity in his right eye is 20/20 and in the left, 20/200. Following an examination in 2005, his optometrist noted, “He has sufficient vision, in my opinion, to perform the driving tasks required to operate a commercial vehicle as he has displayed in the past.” Mr. Crouch reported that he has driven straight trucks for 14 years, accumulating 72,000 miles. He holds a Class C operators license from Oregon. His driving record for the last 3 years shows no crashes or convictions for moving violation in a CMV.

Matthew Daggs

Mr. Daggs, 45, lost his left eye due to a traumatic injury he sustained seven years ago. The best corrected visual acuity in his right eye is 20/20. His optometrist examined him in 2005 and noted, “In my opinion, the patient has sufficient vision to perform driving tasks required to operate a commercial vehicle.” Mr. Daggs reported that he has driven straight trucks for 18 years, accumulating 387,000 miles and tractor-trailer combinations for 15 years, accumulating 30,000 miles. He holds a Class A CDL from Missouri. His driving record for the last 3 years shows no crashes or convictions for moving violations in a CMV.

Donald R. Date, Jr.

Mr. Date, 42, has had amblyopia in his right eye since childhood. The best corrected visual acuity in his right eye is 20/200 and in the left, 20/20. Following an examination in 2005, his optometrist noted, “I certify that Mr. Date has sufficient vision to perform the driving tasks required to operate a commercial vehicle.” Mr. Date reported that he has driven straight trucks for 20 years, accumulating 200,000 miles and tractor-trailer combinations for 17 years, accumulating 765,000 miles. He holds a Class A CDL from Maryland. His driving record for the last 3 years shows no crashes or convictions for moving violations in a CMV.

Douglas M. Fuller

Mr. Fuller, 55, is blind in his right eye due to a retinal detachment that occurred in 1993. The best corrected visual acuity in his left eye is 20/20. Following an examination in 2005, his optometrist noted, “In my opinion, Mr. Fuller has sufficient vision to operate a commercial vehicle.” Mr. Fuller reported that he has driven straight trucks for 38 years, accumulating 1.9 million miles, and tractor-trailer combinations for 15 years, accumulating 600 miles. He holds a Class A CDL from Illinois. His driving record for the last 3 years shows no crashes or convictions for moving violations in a CMV.

Michael Grzybowski

Mr. Grzybowski, 39, has had refractive amblyopia in his right eye since birth. The best corrected visual acuity in his right eye is light perception and in the left, 20/20. His optometrist examined him in 2005 and noted, “This patient has sufficient vision to perform driving tasks required to operate a commercial vehicle.” Mr. Grzybowski reported that he has driven straight trucks for 20 years, accumulating one million miles. He holds a Class C operator's license from Maryland. His driving record for the last 3 years shows no crashes or convictions for moving violations in a CMV.

David L. Jones

Mr. Jones, 60, has had amblyopia in his left eye since birth. The best corrected visual acuity in his right eye is 20/20 and in the left, 20/200. Following an examination in 2005, his optometrist noted, “Because this has been a lifelong condition, Mr. Jones functions well with his situation and can perform his commercial driving tasks with a standard visual correction.” Mr. Jones reported that he has driven tractor-trailer combinations for 14 years, accumulating 823,000 miles. He holds a Class A CDL from Ohio. His driving record for the last 3 years shows no crashes and 2 convictions for moving violations-speeding—in a CMV. He exceeded the speed limit by 13 and 12 mph—and had one seat belt violation in a CMV.

John E. Kimmet

Mr. Kimmet, 35, has had amblyopia in his left eye since childhood. The best corrected visual acuity in his right eye is 20/20 and in the left, 20/200. His optometrist examined him in 2005 and noted that “Mr. Kimmet's condition seems stable and he has adapted very well for his visual requirements. Visually he seems functional to fulfill the demands of a CMV license.” Mr. Kimmett reported that he has driven straight trucks for 4 years, accumulating 110,000 miles. He holds a Class B CDL from Washington. His driving record for the last 3 years shows no crashes and one conviction for a moving violation—failure to obey a traffic sign—in a CMV.

Jason L. Light

Mr. Light, 26, has an aphakia right eye, as a result of an injury that occurred when he was 15 years old. The best corrected visual acuity in his right eye is count-finger-vision at 3 feet and in the left, 20/20. His optometrist examined him in 2005 and noted, “Mr. Light has sufficient vision to perform driving tasks, and operate commercial vehicles.” Mr. Light reported that he has driven straight trucks for 3 years, accumulating 88,000 miles and tractor-trailer combinations for 2½ years, accumulating 5,000 miles. He holds a Class A CDL from Washington. His driving record for the last 3 years shows no crashes or convictions for moving violations in a CMV.

Douglas J. Mauton

Mr. Mauton, 56, has had retinal vein occlusion in his left eye since 1996. The best corrected visual acuity in his right eye is 20/20 and in the left, count-finger-vision at 5 feet. Following an examination in 2005, his optometrist noted, “In my medical opinion, Mr. Mauton has sufficient vision to perform the driving tasks required to operate a commercial vehicle.” Mr. Mauton reported that he has driven straight trucks for 30 years, accumulating 3,000 miles and tractor-trailer combinations for 25 years, accumulating 425,000 miles. He holds a Class A CDL from Kansas. His driving record for the last 3 years shows no crashes or convictions for moving violations in a CMV.

Dennis L. Maxcy

Mr. Maxcy, 47, has optic nerve damage in his left eye as a result of a childhood injury. The visual acuity in his right eye is 20/20 and in the left, peripheral vision only. Following an examination in 2005, his optometrist noted, “I feel Mr. Maxcy has sufficient vision to perform the driving tasks required to operate a commercial vehicle.” Mr. Maxcy reported that he has driven straight trucks for 10 years, accumulating 450,000 miles. He holds a Class A CDL from New York. His driving record for the last 3 years shows no crashes or convictions for moving violations in a CMV.

Robert Mollicone

Mr. Mollicone, 35, has an open globe injury from childhood and a retinal detachment, repaired 8 years ago, both in his left eye. The best corrected visual acuity in his right eye is 20/15 and in the left, 20/100. Following an examination in 2005, his ophthalmologist noted, “I certify in my medical opinion that Mr. Mollicone has sufficient vision to perform the driving tasks required to operate a commercial vehicle.” Mr. Mollicone reported that he has driven straight trucks for 2 years, accumulating 60,000 miles and tractor-trailer combinations for 12 years, accumulating 280,000 miles. He holds a Class CA CDL from Michigan, which allows him to operate a vehicle with a gross weight of 26,001 pounds or more, as well as a vehicle with a gross weight of 26,001 pounds or less. His driving record for the last 3 years shows no crashes or convictions for moving violations in a CMV.

William P. Murphy

Mr. Murphy, 65, has had amblyopia in his right eye since birth. The best corrected visual acuity in his right eye is 20/80 and in the left, 20/20. Following an examination in 2005, his ophthalmologist noted, “In my medical opinion, William Murphy has sufficient vision to perform the driving tasks required to operate a commercial vehicle.” Mr. Murphy reported that he has driven straight trucks for 44 years, accumulating 1.8 million miles and tractor-trailer combinations for 17 years, accumulating 510,000 miles. He holds a Class A CDL from Texas. His driving record for the last 3 years shows no crashes or convictions for moving violations in a CMV.

John V. Nehls

Mr. Nehls, 53, has had refractive ambloypia in his left eye since birth. The best corrected visual acuity in his right eye is 20/15 and in the left, 20/200. Following an examination in 2005, his optometrist noted, “In my medical opinion, Mr. Nehls has sufficient vision to operate a commercial vehicle.” Mr. Nehls reported that he has driven tractor-trailer combinations for 32 years, accumulating 4 million miles. He holds a Class A CDL from South Dakota. His driving record for the last 3 years shows no crashes or convictions for moving violations in a CMV.

Dean B. Ponte

Mr. Ponte, 37, has had amblyopia in his left eye since childhood. The best corrected visual acuity in his right eye is 20/15 and in the left, 20/60. Following an examination in 2005, his optometrist noted, “It is my opinion that he has sufficient vision to operate a commercial vehicle.” Mr. Ponte reported that he has driven straight trucks for 15 years, accumulating 300,000 miles and tractor-trailer combinations for 3 years, accumulating 90,000 miles. He holds a Class A CDL from Massachusetts. His driving record for the last 3 years shows no crashes or convictions for moving violations in a CMV.

John P. Rodrigues

Mr. Rodrigues, 58, has had amblyopia in his right eye since childhood. The best corrected visual acuity in his right eye is 20/100 and in the left, 20/20. Following an examination in 2005, his optometrist noted, “It is my medical opinion that Mr. Rodrigues has sufficient vision to operate a commercial vehicle.” Mr. Rodrigues reported that he has driven straight trucks for 20 years, accumulating 1 million miles and tractor-trailer combinations for 20 years, accumulating 1.5 million miles. He holds a Class A CDL from Texas. His driving record for the last 3 years shows no crashes or convictions for moving violations in a CMV.

Paul D. Schnautz

Mr. Schnautz, 57, has had a central scotoma in his left eye since childhood. The best corrected visual acuity in his right eye is 20/20 and in the left, 20/400. His optometrist examined him in 2005 and noted, “It is my opinion, Mr. Schnautz has sufficient vision to perform the driving tasks required to operate a commercial vehicle.” Mr. Schnautz reported that he has driven straight trucks for 14 years, accumulating 560,000 miles, and tractor-trailer combinations for 38 years, accumulating 3 million miles. He holds a Class A CDL from Texas. His driving record for the last 3 years shows no crashes and one conviction—failure to use his seat belt properly—in a CMV.

Robert A. Sherry

Mr. Sherry, 48, has had amblyopia in his right eye since childhood. The best corrected visual acuity in his right eye is 20/400 and in the left, 20/15. His optometrist examined him in 2005 and noted “Uncorrected visual acuity meets criteria to operate a commercial vehicle.” Mr. Sherry reported that he has driven straight trucks for 5 years, accumulating 25,000 miles and tractor-trailer combinations for 30 years, accumulating 1.95 million miles. He holds a Class A CDL from Pennsylvania. His driving record for the last 3 years shows no crashes or convictions for moving violations in a CMV.

Thomas E. Voyles, Jr.

Mr. Voyles, 53, has had histoplasmosis retinitis in his left eye since 1999. The best corrected visual acuity in his right eye is 20/15 and in the left, count-finger-vision at 10 feet. His optometrist examined him in 2005 and noted “It is my opinion that Thomas E. Voyles, Jr. has adequate vision to safely operate a commercial motor vehicle.” Mr. Voyles reported that he has driven straight trucks for 30 years, accumulating 150,000 miles. He holds a Class M chauffer license from Indiana. His driving record for the last 3 years shows no crashes or convictions for moving violations in a CMV.

Issued on: November 21, 2005.
Rose A. McMurray,
Associate Administrator, Policy and Program Development.

[FR Doc. 05-23490 Filed 11-29-05; 8:45 am]

BILLING CODE 4910-EX-P